DEPARTMENT OF COMMERCE

National Oceanic and Atmospheric Administration

[RTID 0648-XE697]

Endangered Species; File No. 28338

AGENCY: National Marine Fisheries Service (NMFS), National Oceanic and Atmospheric Administration (NOAA), Commerce.

ACTION: Notice; issuance of permit.

SUMMARY: Notice is hereby given that the Puerto Rico Department of Natural and Environmental Resources (PRDNER), San José Industrial Park, 1375 Ave. Ponce de León, San Juan, PR 00926 (Responsible Party: Nilda Jimenez-Marrero, Ph.D.) has been issued a permit to take pillar coral (Dendrogyra cylindrus) for purposes of enhancement.

ADDRESSES: The permit and related documents are available for review upon written request via email to NMFS.Pr1Comments@noaa.gov.

FOR FURTHER INFORMATION CONTACT: Amy Hapeman or Erin Markin, Ph.D., (301) 427-8401.

SUPPLEMENTARY INFORMATION: On October 24, 2024, notice was published in the Federal Register (89 FR 84868) that a request for an enhancement permit to take pillar coral had been submitted by the above-named organization. The requested permit has been issued under the authority of the Endangered Species Act of 1973, as amended (ESA; 16 U.S.C. 1531 et seq.) and the regulations governing the taking, importing, and exporting of endangered and threatened species (50 CFR parts 222 through 226).

The 10-year permit authorizes the PRDNER to conduct restoration activities for pillar coral in Puerto Rico to preserve the genetic diversity of the species and increase its population numbers in coral reefs in the wild. Restoration practitioners may collect colonies or parts of colonies from coral reefs in the waters of Puerto Rico and transport them to in situ and ex situ nurseries for maintenance and propagation. Colonies may be outplanted to the wild from nurseries. Additional colonies or parts of colonies may be collected from the wild as part of emergency response due to catastrophic events, such as a vessel grounding or storm. These colonies may be reattached or stabilized in the wild (in the same location or at a new location) or transported to a nursery.

Issuance of this permit, as required by the ESA, was based on a finding that such permit (1) was applied for in good faith, (2) will not operate to the disadvantage of such endangered or threatened species, and (3) is consistent with the purposes and policies set forth in section 2 of the ESA.

Dated: March 21, 2025.
Julia M. Harrison,
Chief, Permits and Conservation Division, Office of Protected Resources, National Marine Fisheries Service.

[FR Doc. 2025-05370 Filed 3-27-25; 8:45 am]

BILLING CODE 3510-22-P